NUCLEAR REGULATORY COMMISSION

[Docket No. 50-400]

Notice of Acceptance for Docketing of the Application, for Facility Operating License No. NPF-63 for an Additional 20-Year Period; Carolina Power & Light Company, Shearon Harris Nuclear Power Plant, Unit 1

The U.S. Nuclear Regulatory Commission (NRC or the Commission) is considering an application for the renewal of operating license NPF-63, which authorizes the Carolina Power & Light Company, doing business as Progress Energy Carolinas, Inc., to operate the Shearon Harris Nuclear Power Plant, (HNP), Unit 1, at 2900 megawatts thermal. The renewed license would authorize the applicant to operate the HNP, Unit 1, for an additional 20 years beyond the period specified in the current license. HNP, Unit 1, is located in Wake County, North Carolina, and its current operating license expires on October 24, 2026.

On November 16, 2006, the Commission's staff received an application from Carolina Power & Light Company, to renew operating license NPF-63 for HNP, Unit 1, pursuant to Title 10 of the Code of Federal Regulations (CFR) Part 54. A notice of receipt and availability of the license renewal application (LRA) was published in the Federal Register on December 11, 2006 (71 FR 71586).

The Commission's staff has reviewed the LRA for its acceptability and has determined that Carolina Power & Light Company has submitted sufficient information in accordance with 10 CFR Sections 54.19, 54.21, 54.22, 54.23, and 51.53(c), and that the application is acceptable for docketing. The Commission will retain the current Docket No. 50-400, for operating license NPF-63. The docketing of the renewal application does not preclude requests for additional information as the review proceeds, nor does it predict whether the Commission will grant or deny the license.

The license renewal process proceeds along two tracks, one for review of safety issues, pursuant to 10 CFR Part 54 and another for environmental issues, pursuant to 10 CFR Part 51. An applicant must provide NRC with an evaluation of the technical aspects of plant aging and describe the aging management programs and activities that will be relied on to manage aging. In addition, in order to support plant operation for the additional 20 years, the applicant must prepare an evaluation of the potential impact on the environment. The NRC reviews the application, documents its reviews in a safety evaluation report and a supplemental environmental impact statement, and performs verification inspections at the applicant's facility. If the NRC issues a renewed license, the licensee must continue to comply with all existing regulations, license conditions, orders, and commitments associated with the current operating license as well as those additional activities required as a result of license renewal. The licensee's activities continue to be subject to NRC oversight during the period of extended operation.

Before issuance of the requested renewed license, the NRC will have made the findings required by the Atomic Energy Act of 1954, as amended (the Act), and the Commission's rules and regulations. In accordance with 10 CFR 54.29, the NRC may issue a renewed license on the basis of its review if it finds that actions have been identified and have been or will be taken with respect to: (1) Managing the effects of aging during the period of extended operation on the functionality of structures and components that have been identified as requiring aging management review; and (2) time-limited aging analyses that have been identified as requiring review, such that there is reasonable assurance that the activities authorized by the renewed license will continue to be conducted in accordance with the current licensing basis (CLB), and that any changes made to the plant's CLB will comply with the Act and the Commission's regulations. In addition, the Commission must find that applicable requirements of Subpart A of 10 CFR Part 51 have been satisfied, and that matters raised under 10 CFR 2.335 have been addressed.

Notice of Opportunity for Hearing and Notices relating to the environmental review will be published at a later date.

In accordance with 10 CFR 51.53(c) and 10 CFR 54.23, Carolina Power & Light Company prepared and submitted the environmental report (ER) as part of the LRA. The LRA and the ER are publicly available at the NRC's PDR, located at One White Flint North, 11555 Rockville Pike, Rockville, Maryland 20852, or from ADAMS. The ADAMS accession numbers for the LRA and the ER are ML063350270 and ML063350276, respectively. The public may also view the LRA and the ER on the Internet at http://www.nrc.gov/reactors/operating/licensing/renewal/applications.html. In addition, the LRA and the ER are available to the public near HNP, Unit 1, at the Eva. H. Perry Library, 2100 Shepherd's Vineyard Drive, Apex, North Carolina 27502.

Dated at Rockville, Maryland, this 8th day of January, 2007.
For the Nuclear Regulatory Commission.
Pao-Tsin Kuo,
Acting Director, Division of License Renewal, Office of Nuclear Reactor Regulation.

[FR Doc. E7-324 Filed 1-11-07; 8:45 am]

BILLING CODE 7590-01-P